DEPARTMENT OF THE INTERIOR

Bureau of Land Management

[LLNVL01000. L5110. GN0000. LVEMF1201180; N82888, N90443; MO# 4500031854; TAS: 14X5017]

Notice of Intent To Prepare an Environmental Impact Statement for the Proposed Bald Mountain Mine North and South Operations Area Projects, White Pine County, NV

AGENCY: Bureau of Land Management, Department of the Interior.

ACTION: Notice of intent.

SUMMARY: In compliance with the National Environmental Policy Act of 1969, as amended, (NEPA) and the Federal Land Policy and Management Act (FLPMA) of 1976, as amended, the Bureau of Land Management (BLM) Egan Field Office, Ely, Nevada intends to prepare an Environmental Impact Statement (EIS) and by this notice is announcing the beginning of the scoping process to solicit public comments and identify issues. The proposed project is located in White Pine County, about 70 miles northwest of Ely and 30 miles northeast of Eureka, Nevada.

DATES: This notice initiates the public scoping process for the EIS. Comments on issues may be submitted in writing until 30 days after the publication of this notice in the Federal Register. The date(s) and location(s) of any scoping meetings will be announced at least 15 days in advance through local media, newspapers, and the BLM web site at: http://www.blm.gov/nv/st/en/fo/ely_field_office.html. In order to be included in the Draft EIS, all comments must be received prior to the close of the scoping period or 15 days after the last public meeting, whichever is later. We will provide additional opportunities for public participation upon publication of the Draft EIS.

ADDRESSES: You may submit comments related to the Bald Mountain Mine North and South Operations Area Projects by any of the following methods:

• Email: BLM_NV_EYDO_Barrick_Bald_EIS@blm.gov.

• Fax: (775) 289-1910.

• Mail: BLM Ely District, Egan Field Office, HC 33 Box 33500, Ely, NV, 89301.

Documents pertinent to this proposal may be examined at the Egan Field Office, 702 N. Industrial Way, Ely, Nevada.

FOR FURTHER INFORMATION CONTACT: For further information and/or to have your name added to our mailing list, contact Miles Kreidler, project lead, telephone: (775) 289-1893; email: mkreidler@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Bald Mountain Mine (BMM), owned by Barrick Gold US Inc., proposes to expand the existing approved mine facilities in the North Operations Project Area, and expand the existing Casino/Winrock Plan of Operations and incorporate it into the North Operations Project Area. This expansion would add four new heap leach pads and increase the total surface disturbance from 9,124 acres to 13,704 acres. Of the 13,704 total acres, 21.6 acres would be located on private land. In addition, BMM proposes an expansion of the South Operations Area Project which would encompass and expand the existing Yankee and Alligator Ridge mine sites, and would include an access road from the North Operations Area to the South Operations Area. The access road would provide a direct route for transportation of equipment and personnel between the two operational areas, and would also be used for a power line corridor. Establishing the South Operations Area Project would increase the total surface disturbance from 960 acres to 3,643 acres, all of which is on public land.

Mining has been ongoing in this area for over 20 years and a variety of different mining proposals have been analyzed under previous NEPA documents. Most recently, mine expansions were analyzed in the Final Environmental Impact Statement for the Bald Mountain Mine North Operations Area Project (August 2009) and the Mooney Heap and Little Bald Mountain Mine Expansion Project Environmental Assessment (July 2006).

A range of alternatives will be developed, including the no-action alternative, to address the issues identified during scoping. Mitigation measures will be considered to minimize environmental impacts and to assure the proposed action does not result in unnecessary or undue degradation of public lands.

The purpose of the public scoping process is to determine relevant issues that will influence the scope of the environmental analysis, including alternatives, and guide the process for developing the EIS. At present, the BLM has identified the following preliminary issues:

(a) Potential wildlife impacts could include loss of forage or impediments to mule deer migration, and loss of habitat for the greater sage-grouse and raptors, including golden eagles.

(b) Potential effects to viewshed posed by the proximity of the project to the Pony Express Trail, a Class II Visual Resource Management Area.

(c) Potential effects to wild horses could include loss of habitat and mortality from vehicles using the access road. The project area is within the boundaries of the Triple B Wild Horse Herd Management Area.

(d) Potential impacts to air quality could be created by an increase in the use of equipment at the North Operations Area Project and the initiation of mining at the South Operations Area Project.

The BLM will utilize and coordinate the NEPA commenting process to help fulfill the public involvement process under Section 106 of the National Historic Preservation Act (16 U.S.C. 470f) as provided for in 36 CFR 800.2(d)(3). Native American Tribal consultations will be conducted in accordance with policy, and Tribal concerns will be given due consideration, including impacts on Indian trust assets. Federal, state, and local agencies, along with other stakeholders that may be interested or affected by the BLM's decision on this project are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR part 1501 and 43 CFR part 3809.

Doris A. Metcalf,
Field Manager, Egan Field Office.

[FR Doc. 2012-9089 Filed 4-13-12; 8:45 am]

BILLING CODE 4310-HC-P